DEPARTMENT OF DEFENSE

Office of the Secretary of Defense

Meeting of the DoD Advisory Group on Electron Devices

AGENCY: Department of Defense, Advisory Group on Electron Devices.

ACTION: Notice.

SUMMARY: The DoD Advisory Group on Electron Devices (AGED) announces a closed session meeting and Study Topic Review on Field Programmable Gate Arrays for Military Applications.

DATES: The meeting will be held at 0830, Monday, August 2, 2004. The Study Topic Review will be held August 3rd 0800-2130, August 4th 0830-1800 and August 5th 0900-1700.

ADDRESSES: The meeting will be held at Naval Postgraduate School, 1 University Circle, Monterey, CA 93943.

FOR FURTHER INFORMATION CONTACT: Mr. Eric Carr, AGED Secretariat, 1745 Jefferson Davis Highway, Crystal Square Four, Suite 500, Arlington, Virginia 22202.

SUPPLEMENTARY INFORMATION: The mission of the Advisory Group is to provide advice to the Under Secretary of Defense for Acquisition, Technology and Logistics to the Director of Defense Research and Engineering (DDR&E), and through the DDR&E to the Director, Defense Advanced Research Projects Agency and the Military Departments in planning and managing an effective and economical research and development program in the area of electron devices.

The AGED meeting will be limited to review of research and development programs which the Military Departments propose to initiate with industry, universities or in their laboratories. The agenda for this meeting will include programs on microwave technology, microelectronics, electro-optics, and electronics materials.

In accordance with Section 10(d) of Pub. L. 93-463, as amended, (5 U.S.C. App. 10(d)), it has been determined that this Advisory Group meeting concerns matters listed in 5 U.S.C. 552b(c)(1), and that accordingly, this meeting will be closed to the public.

Dated: July 12, 2004.
L.M. Bynum,
Alternate, OSD Federal Register Liaison Officer, Department of Defense.

[FR Doc. 04-16260 Filed 7-16-04; 8:45 am]

BILLING CODE 5001-06-M